Proclamation 9753 of May 18, 2018

Armed Forces Day, 2018

By the President of the United States of America

A Proclamation

On Armed Forces Day, we pay tribute to the extraordinary men and women who serve our Nation with valor and distinction in all branches of the military. This annual observance honors their steadfast service in preserving our Nation's peace, preserving our freedom, and defending our founding principles.

Throughout our history, in times of war and peace, our service members have served with bravery, skill, and unwavering devotion to duty. There is no fighting force that rivals that of the United States military. The precious liberties all Americans enjoy are possible because, every day and without exception, our Armed Forces relentlessly and tirelessly carry out the critical mission of protecting our country, our freedoms, and our way of life.

Taking care of our Armed Forces is one of the highest priorities of my Administration. Our military has made tremendous gains against ISIS and al-Qa'ida in Syria and Iraq, with ISIS having lost nearly 100 percent of the territory it formerly occupied. These successes underscore the importance of continuing to support, grow, and modernize our military forces—we must ensure that our Armed Forces remain second to none. Earlier this year, I signed into law legislation that does just that, providing nearly $700 billion in funding for national defense. These funds will increase our military's capacity—investing billions in new equipment, maintenance, and troop readiness.

We will never be able to repay fully our heroes for their selfless service. We must, therefore, guarantee that we support them and their families here at home so that they can effectively execute their missions abroad. I was very pleased to sign into law legislation that gave our troops a 2.4 percent pay raise—their largest pay raise in 8 years. I was also proud to sign an Executive Order this month to enhance employment opportunities for the spouses of our service members. My Administration will not stop in our efforts to encourage all sectors of our country—private and public—to find ways to support our troops and their loved ones.

On this day, and every day, we owe a debt of gratitude to our service members stationed at home and those deployed around the world. All across America, we enjoy the blessings of liberty because our Nation's finest men and women willingly accept the call to service. We proudly salute our Soldiers, Sailors, Airmen, Marines, and Coast Guardsmen, and recognize the families who serve alongside them for their courage and commitment.

NOW, THEREFORE, I, DONALD J. TRUMP, President of the United States of America, and Commander in Chief of the Armed Forces of the United States, continuing the tradition of my predecessors in office, do hereby proclaim the third Saturday of each May as Armed Forces Day.

I invite the Governors of the States and Territories and other areas subject to the jurisdiction of the United States to provide for the observance of Armed Forces Day within their jurisdiction each year in an appropriate manner designed to increase public understanding and appreciation of the Armed Forces of the United States. I also invite veterans, civic, and other organizations to join in the observance of Armed Forces Day each year.

Finally, I call upon all Americans to display the flag of the United States at their homes and businesses on Armed Forces Day, and I urge citizens to learn more about military service by attending and participating in the local observances of the day.

Proclamation 9615 of May 19, 2017, is hereby superseded.

IN WITNESS WHEREOF, I have hereunto set my hand this eighteenth day of May, in the year of our Lord two thousand eighteen, and of the Independence of the United States of America the two hundred and forty-second.

[FR Doc. 2018-11373

Filed 5-23-18; 11:15 am]

Billing code 3295-F8-P